DEPARTMENT OF STATE

[Notice Number 3588]

Shipping Coordinating Committee; Notice of Meeting

The U.S. Shipping Coordinating Committee (SHC) will conduct an open meeting at 10 a.m. on Tuesday, April 10, 2001, in Room 2415 at U.S. Coast Guard Headquarters, 2100 Second Street, SW., Washington, DC. The purpose of this meeting is to report on the results of: (1) The International Conference on Liability and Compensation for Bunker Oil Pollution Damage, 2001; and (2) an informal meeting of interested delegates to the International Maritime Organization (IMO) Legal Committee to discuss the draft protocol to the Athens Convention Relating to the Carriage of Passengers and Their Luggage By Sea.

Members of the public are invited to attend the SHC meeting up to the seating capacity of the room. For further information, or to submit views in advance of the meeting, please contact Captain Joseph F. Ahern or Lieutenant Daniel J. Goettle, U.S. Coast Guard, Office of Maritime and International Law (G-LMI), 2100 Second Street, SW., Washington, DC 20593-0001; telephone (202) 267-1527; fax (202) 267-4496.

Dated: March 12, 2001.
Stephen M. Miller,
Executive Secretary, Shipping Coordinating Committee, Department of State.

[FR Doc. 01-7156 Filed 3-21-01; 8:45 am]

BILLING CODE 4710-07-P